DEPARTMENT OF COMMERCE

International Trade Administration

President's Advisory Council on Doing Business in Africa

AGENCY: International Trade Administration, Department of Commerce.

ACTION: Notice of an open meeting.

SUMMARY: The President's Advisory Council on Doing Business in Africa will hold a meeting to deliberate and adopt recommendations on the reauthorization and modernization of the Africa Growth and Opportunity Act (AGOA). The PAC-DBIA will present recommendations focused on proposed duration of a renewal of AGOA, eligibility criteria for African nations, opportunities for greater utilization of AGOA benefits by eligible countries, coverage of specific key sectors under AGOA, and priorities for growing U.S.-Africa trade and investment relationships outside of the AGOA program. The final agenda for the meeting will be posted prior to the meeting on the Council's website at http://trade.gov/pac-dbia.

DATES: July 23, 2024, 10:00 a.m. Eastern Time.

ADDRESSES: The President's Advisory Council on Doing Business in Africa meeting will be held virtually via Cisco Webex. Members of the public may attend this meeting in listen-only mode, and must submit registration requests to Giancarlo.Cavallo@trade.gov and dbia@trade.gov, by 5:00 p.m. ET on July 19, 2024. Members of the public who request to attend this meeting by the above deadline will receive a registration link prior to the meeting.

FOR FURTHER INFORMATION CONTACT: Giancarlo Cavallo, Designated Federal Officer, President's Advisory Council on Doing Business in Africa, Department of Commerce, 1401 Constitution Ave. NW, Room 22004, Washington, DC 20230, telephone: 202-766-8044; email: dbia@trade.gov,Giancarlo.Cavallo@trade.gov.

SUPPLEMENTARY INFORMATION:

Background: The PAC-DBIA was established on August 5, 2014, to advise the President, through the Secretary of Commerce, on strengthening commercial engagement between the United States and Africa. The Council's charter was renewed for a fifth two-year term in December 2023. The Council was established in accordance with the provisions of the Federal Advisory Committee Act, as amended, 5 U.S.C. App.

Exceptional Circumstances: Pursuant to 41 CFR 102-3.150(b), the notice for this meeting is given less than 15 calendar days prior to the meeting because of the exceptional circumstances of the U.S.-sub-Saharan Africa Trade and Economic Cooperation Forum (AGOA Forum) taking place in Washington, DC, from July 24 to 26, 2024, and the need for PAC-DBIA's recommendations on the topic of AGOA renewal to be incorporated and publicized at and in conjunction with this year's AGOA Forum events.

Public Participation: The meeting will be open to the public for observation. Members of the public wishing to observe the meeting live are required to register in advance by sending an email request to Giancarlo.Cavallo@trade.gov and dbia@trade.gov, by 5:00 p.m. ET on July 19, 2024. The public is also invited to submit written statements to the Council for consideration in advance of this meeting by 5:00 p.m. ET on July 19, 2024. Members of the public are encouraged to submit written comments via email to ensure timely receipt, but may submit by either of the following methods:

a. Electronic Submissions

Submit statements electronically to Giancarlo Cavallo, Designated Federal Officer, President's Advisory Council on Doing Business in Africa, via email: dbia@trade.gov.

b. Paper Submissions

Send paper statements to Giancarlo Cavallo, Designated Federal Officer, President's Advisory Council on Doing Business in Africa, Department of Commerce, 1401 Constitution Ave. NW, Room 22004, Washington, DC, 20230.

Statements will be provided to PAC-DBIA members in advance of the meeting for consideration and may be posted on the Council website (http://trade.gov/pac-dbia). Any business proprietary information should be clearly designated as such. All statements received, including attachments and other supporting materials, are part of the public record and subject to public disclosure.

Meeting transcripts: Copies of the Council's meeting transcript and a video recording of the meeting will be available within ninety (90) days of the meeting on the Council's website at http://trade.gov/pac-dbia.

Giancarlo Cavallo,
Deputy Director, Office of Africa.

[FR Doc. 2024-15926 Filed 7-18-24; 8:45 am]

BILLING CODE 3510-DR-P